FEDERAL RESERVE SYSTEM

DEPARTMENT OF THE TREASURY

Study and Report to Congress on the Impact on Consumers and Markets in the United States of a Final International Insurance Capital Standard

AGENCY: Board of Governors of the Federal Reserve System and Federal Insurance Office, Department of the Treasury.

ACTION: Notice of commencement of report drafting.

SUMMARY: The Board of Governors of the Federal Reserve System (Board) and the Federal Insurance Office (FIO) of the Department of the Treasury (together, the agencies) are providing notice that the agencies intend to commence drafting a report to Congress on the impact on consumers and markets in the United States before supporting or consenting to the adoption of any final international insurance capital standard. This report is contemplated by section 211(c)(3) of the Economic Growth, Regulatory Relief, and Consumer Protection Act (EGRRCPA).

DATES: The agencies intend to commence drafting the report after July 12, 2024.

FOR FURTHER INFORMATION CONTACT:

Board: Lara Lylozian, Deputy Associate Director and Chief Accountant, (202) 475-6656; or Matt Walker, Manager, Insurance Supervision & Regulation, (202) 872-4971, Division of Supervision and Regulation; or Dafina Stewart, Deputy Associate General Counsel, (202) 452-2677; Andrew Hartlage, Special Counsel, (202) 452-6483; Jonah Kind, Senior Counsel, (202) 452-2045; or Jasmin Keskinen, Senior Attorney, (202) 475-6650, Legal Division, Board of Governors of the Federal Reserve System, 20th Street and Constitution Avenue NW, Washington, DC 20551. For users of TTY-TRS, please call 711 from any telephone, anywhere in the United States.

Treasury: Krishna Kundu, Senior Insurance Regulatory Policy Analyst, FIO, (202) 622-2753; or Mark Schlegel, Senior Counsel, Office of the General Counsel, Department of the Treasury, (202) 622-1027, Department of the Treasury, 1500 Pennsylvania Avenue NW, Washington, DC 20220.

SUPPLEMENTARY INFORMATION: Under section 211(c)(3)(A) of EGRRCPA,¹ the Secretary of the Treasury (the Secretary), the Chair of the Board (the Chair), and the Director of FIO must, in consultation with the National Association of Insurance Commissioners, complete a study on, and submit to Congress a report on the results of the study, the impact on consumers and markets in the United States before supporting or consenting to the adoption of any final international insurance capital standard. In addition, under section 211(c)(3)(B)(i) of EGRRCPA, the Secretary, the Chair, and the Director of FIO must provide public notice before the date on which drafting a report required under subparagraph (A) is commenced.²

¹ 31 U.S.C. 313 note.

² Id.

As background, the International Association of Insurance Supervisors (IAIS) is developing the Insurance Capital Standard (ICS) as a consolidated group-wide capital standard for internationally active insurance groups, for the purposes of creating a common language for supervisory discussions of group solvency and enhancing global convergence among group capital standards.³ The IAIS also is assessing whether the Aggregation Method under development by the United States provides comparable outcomes to the ICS, and if so, will be considered an outcome-equivalent approach for implementation of the ICS as a prescribed capital requirement.⁴

³ International Association of Insurance Supervisors, https://www.iaisweb.org/activities-topics/standard-setting/insurance-capital- standard/.

⁴ IAIS statement, “The IAIS begins the AM comparability assessment,” October 17, 2023, https://www.iaisweb.org/uploads/2023/10/IAIS-statement-IAIS-begins-the-AM-comparability-assessment.pdf.

The agencies hereby give notice that they intend to commence drafting the report contemplated in section 211(c)(3)(A) after July 12, 2024.

Kayla Arslanian,
Executive Secretary, Department of the Treasury.
Steven E. Seitz,
Director, Federal Insurance Office, Department of the Treasury.
Benjamin W. McDonough,
Deputy Secretary and Ombuds of the Board.

[FR Doc. 2024-15348 Filed 7-11-24; 8:45 am]

BILLING CODE 6210-01-P; 4810-AK-P